DEPARTMENT OF TRANSPORTATION

Federal Aviation Administration

14 CFR Part 39

[Docket No. FAA-2005-21184; Directorate Identifier 2004-NM-111-AD; Amendment 39-14211; AD 2005-16-06]

RIN 2120-AA64

Airworthiness Directives; Boeing Model 747 Airplanes

AGENCY: Federal Aviation Administration (FAA), Department of Transportation (DOT).

ACTION: Final rule.

SUMMARY: The FAA is adopting a new airworthiness directive (AD) for certain Boeing Model 747 airplanes. This AD requires modifying the inflation systems of the upper deck escape slides; single-piece off-wing escape ramps/slides; two-piece off-wing escape slides; and door 1, 2, 4, and 5 escape slides/rafts. This AD results from a report of 30- to 60-second delays in the inflation of escape slides/rafts. We are issuing this AD to prevent actuation delays in the inflation systems of the escape slides/rafts, which could result in delayed or failed deployment of escape slides/rafts during emergency evacuation of an airplane.

DATES: Effective September 13, 2005.

The Director of the Federal Register approved the incorporation by reference of certain publications listed in the AD as of September 13, 2005.

ADDRESSES: You may examine the AD docket on the Internet at http://dms.dot.gov or in person at the Docket Management Facility, U.S. Department of Transportation, 400 Seventh Street SW., Nassif Building, Room PL-401, Washington, DC.

Contact Boeing Commercial Airplanes, P.O. Box 3707, Seattle, Washington 98124-2207, for service information identified in this AD.

FOR FURTHER INFORMATION CONTACT: Donald Wren, Aerospace Engineer, Cabin Safety and Environmental Systems Branch, ANM-150S, FAA, Seattle Aircraft Certification Office, 1601 Lind Avenue, SW., Renton, Washington 98055-4056; telephone (425) 917-6451; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 747 airplanes. That NPRM was published in the Federal Register on May 12, 2005 (70 FR 24994). That NPRM proposed to require modifying the inflation systems of the upper deck escape slides; single-piece off-wing escape ramps/slides; two-piece off-wing escape slides; and door 1, 2, 4, and 5 escape slides/rafts.

Comments

We provided the public the opportunity to participate in the development of this AD. We have considered the comment that has been received on the NPRM. The commenter supports the NPRM.

Conclusion

We have carefully reviewed the available data, including the comment that has been received, and determined that air safety and the public interest require adopting the AD as proposed.

Costs of Compliance

There are about 958 airplanes of the affected design in the worldwide fleet. This AD affects about 169 airplanes of U.S. registry. The actions in this AD take about 1 work hour per door, at an average labor rate of $65 per work hour.

The following table provides the estimated costs for U.S. operators to comply with this AD.

Estimated Costs
Model | Work hours | Parts costs | Cost per airplane | Number of U.S. registered planes | Fleet hours
747-100, −100B, −100B SUD, −200B, and −200C series airplanes, identified as Group 1 in Boeing Service Bulletin 747-25-3279 | 12 | $34,832 (2 each: doors 1, 2, 4, 5, upper deck, and two-piece off-wing) | $35,612 | 53 | $1,887,436
747-200B and −300 series airplanes, identified as Group 2 in Boeing Service Bulletin 747-25-3279 | 8 | $26,368 (2 each: doors 1, 2, 4, and 5) | 26,888 | 4 | 107,552
747-200B series airplanes, identified as Group 3 in Boeing Service 747-25-3279 | 10 | $30,600 (2 each: doors 1, 2, 4, 5, and two-piece off-wing) | 31,250 | 1 | 31,250
747-100, −100B, −100B SUD, −200B, 747SP, and 747SR series airplanes, identifed as Group 4 in Boeing Service Bulletin 747-25-3279 | 10 | $30,600 (2 each: doors 1, 2, 4, and 5, and upper deck) | 31,250 | 17 | 531,250
747-200F and and −400F series airplanes, identified as Group 5 in Boeing Service Bulletin 747-25-3279 | 2 | $4,232 (2 upper deck doors) | 4,362 | 32 | 139,584
747-200B series airplanes, identified as Group 6 in Boeing Service Bulletin 747-25-3279 | 2 | $4,232 (2 two-piece off-wing doors) | 4,362 | 0
747-400 and −400D series airplanes, identified in Boeing Service Bulletin Bulletin 747-25-3232 | 2 | $8,250 (2 single-piece off-wing doors) | 8,380 | 59 | 494,420
747-200B series airplanes, identified as Group 4 in Boeing Service Bulletin 747-25-3279 and also identified in Boeing Service Bulletin 747-25-3232 | 10 | $30,600 (2 each: doors 1, 2, 4, 5, upper deck and single-piece off-wing) | 31,250 | 3 | 93,750

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-16-06 Boeing: Amendment 39-14211. Docket No. FAA-2005-21184; Directorate Identifier 2004-NM-111-AD.

Effective Date

(a) This AD becomes effective September 13, 2005.

Affected ADs

(b) None.

Applicability: (c) This AD applies to the airplanes listed in Table 1 of this AD, certificated in any category.

Table 1.—Applicability
Boeing— | As identified in—
Model 747-100, -100B, -100B SUD, -200B, -200C, -200F, -300, -400F, 747SP, and 747SR series airplanes | Boeing Service Bulletin 747-25-3279, Revision 1, dated July 11, 2002.
Model 747-200B, -200C, -300, -400, and -400D series airplanes | Boeing Service Bulletin 747-25-3232, dated July 6, 2000.

Unsafe Condition

(d) This AD was prompted by a report of 30- to 60-second delays in the inflation of escape slides/rafts. We are issuing this AD to prevent actuation delays in the inflation systems of the escape slides/rafts, which could result in delayed or failed deployment of escape slides/rafts during emergency evacuation of an airplane.

Compliance: (e) You are responsible for having the actions required by this AD performed within the compliance times specified, unless the actions have already been done.

Modification for Upper Deck, Two-Piece Off-Wing, and Door 1, 2, 4, and 5 Slides and Slide/Rafts

(f) For Model 747-100, -100B, -100B SUD, -200B, -200C, -200F, -300, -400F, 747SP, and 747SR series airplanes identified in Boeing Service Bulletin 747-25-3279, Revision 1, dated July 11, 2002: Within 36 months after the effective date of this AD, do the actions specified in paragraphs (f)(1) and (f)(2) of this AD, as applicable, in accordance with Boeing Service Bulletin 747-25-3279, Revision 1, dated July 11, 2002.

(1) Modify the inflation systems of the upper deck and two-piece off-wing escape slides.

(2) Modify the inflation systems of the door 1, 2, 4, and 5 escape slides/rafts, as applicable.

Note 1: Boeing Service Bulletin 747-25-3279 refers to Goodrich Service Bulletin 4A3037-25-327, dated November 30, 2001; Goodrich Service Bulletin 4A3056-25-331, dated December 21, 2001; and Goodrich Service Bulletin 4A3221-25-332, dated December 21, 2001; as additional sources of service information for doing the modifications.

Modification for Single-Piece Off-Wing Ramp/Slides

(g) For Model 747-200B, -200C, -300, -400, and -400D series airplanes identified in Boeing Service Bulletin 747-25-3232, dated July 6, 2000: Within 36 months after the effective date of this AD, modify the inflation system of the single-piece off-wing escape ramps/slides, in accordance with Boeing Service Bulletin 747-25-3232, dated July 6, 2000.

Note 2: Boeing Service Bulletin 747-25-3232 refers to Goodrich Service Bulletin 4A3416-25-305, Revision 2, dated October 15, 2001, as an additional source of service information for doing the modification.

Parts Installation

(h) As of the effective date of this AD, unless the regulator assembly of the inflation system has been modified in accordance with paragraph (f) or (g) of this AD, as applicable, no person may install on any airplane a regulator assembly with any of the following part numbers (P/Ns): P/N 4A3047, -2, -3, -4, -5, -8, -9, or -10; P/N 4A3194-1, -2, -3, or -4; or P/N 4A3474-3.

Credit for Previous Service Bulletin

(i) Actions done before the effective date of this AD in accordance with Boeing Service Bulletin 747-25-3279, dated May 16, 2002, are acceptable for compliance with the corresponding requirements of paragraph (f) of this AD.

Alternative Methods of Compliance (AMOCs)

(j) The Manager, Seattle Aircraft Certification Office, FAA, has the authority to approve AMOCs for this AD, if requested in accordance with the procedures found in 14 CFR 39.19.

Material Incorporated by Reference

(k) You must use Boeing Service Bulletin 747-25-3279, Revision 1, dated July 11, 2002; and Boeing Service Bulletin 747-25-3232, dated July 6, 2000; as applicable, to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 29, 2005.
Kevin M. Mullin,
Acting Manager, Transport Airplane Directorate, Aircraft Certification Service.

[FR Doc. 05-15584 Filed 8-8-05; 8:45 am]

BILLING CODE 4910-13-P